DEPARTMENT OF HEALTH AND HUMAN SERVICES

Substance Abuse and Mental Health Services Administration

Notice of Request for Applications for Grants for National Technical Assistance Centers on Consumer/Peer-Run Programs (Consumer TA Centers)

AGENCY: Substance Abuse and Mental Health Services Administration, HHS.

ACTION: Notice of request for applications for grants for National Technical Assistance Centers on Consumer/Peer-Run Programs (Consumer TA Centers).

Authority: Section 520A of the Public Health Service Act.

SUMMARY: The Substance Abuse and Mental Health Services Administration (SAMHSA), Center for Mental Health Services (CMHS), is accepting applications for Fiscal Year 2004 grants to assist in the transformation of the mental health system by providing consumers with necessary skills to foster consumer/peer-run programs. These programs maximize consumer self-determination and recovery and assist people with severe mental illness to decrease their dependence on expensive social services and avoid psychiatric hospitalization.

DATES: Applications are due on June 25, 2004.

FOR FURTHER INFORMATION CONTACT: For questions on program issues contact: Risa S. Fox, M.S., SAMHSA/CMHS, 5600 Fishers Lane, Room 11C-22, Rockville, MD 20857, Phone: (301) 443-3653; E-mail: rfox@samhsa.gov.

For questions on grants management issues contact: Gwendolyn Simpson, SAMHSA/Division of Grants Management, 5600 Fishers Lane, Room 13-103, Rockville, MD 20857, Phone: (301) 443-4456; E-mail: gsimpson@samhsa.gov.

SUPPLEMENTARY INFORMATION:

Grants for National Technical Assistance Centers on Consumer/Peer-Run Programs (SM 04-011) (Initial Announcement)

Catalogue of Federal Domestic Assistance (CFDA) No.: CFDA No.93.243.

Key Dates
Application Deadline | Applications are due by June 25, 2004.
Intergovernmental Review (E.O. 12372) | Letters from State Single Point of Contact (SPOC) are due no later than August 24, 2004.
Public Health System Impact Statement (PHSIS)/SSA Coordination | Applicants must send the PHSIS to appropriate State and local health agencies by application deadline. Comments from Single State Agency are due no later than 60 days after application deadline.

Table of Contents

I. Funding Opportunity Description

1. Introduction

2. Expectations

II. Award Information

1. Award Amount

2. Funding Mechanism

III. Eligibility Information

1. Eligible Applicants

2. Definitions

3. Cost-Sharing

4. Other

IV. Application and Submission Information

1. Address to Request Application Package

2. Content and Form of Application Submission

3. Submission Dates and Times

4. Intergovernmental Review (E.O. 12372) Requirements

5. Funding Restrictions

6. Other Submission Requirements

V. Application Review Information

1. Criteria

2. Review and Selection Process

VI. Award Administration Information

1. Award Notices

2. Administrative and National Policy Requirements

3. Reporting

VII. Agency Contacts

Appendix A: Checklist for Application Formatting Requirements

Appendix B: Glossary

Appendix C: Certification of Consumer or Consumer Supporter Eligibility

Appendix D: Guidelines for Conducting the Alternatives Conference

Appendix E: Customer Satisfaction Survey

I. Funding Opportunity Description

1. Introduction

As authorized under Section 520A of the Public Health Service Act, the Substance Abuse Mental Health Services Administration (SAMHSA) announces the availability of funds for National Technical Assistance Centers on Consumer/Peer-Run Programs (Consumer/Peer-Run TACs) grants. The Consumer/Peer-Run TACs will assist in the transformation of the mental health system by providing consumers with necessary skills to foster consumer/peer-run programs. These programs maximize consumer self-determination and recovery and assist people with severe mental illness to decrease their dependence on expensive social services and avoid psychiatric hospitalization.

2. Expectations

2.1 Background

The Consumer/Peer-Run TACs support the work of SAMHSA's Center for Mental Health Services (CMHS) to transform the mental health system through changes that help adults with severe mental illnesses recover and live independently and productively in the community. CMHS fosters consumer involvement in the planning, delivery, and evaluation of mental health services and recognizes the role of self-help, mutual support, and empowerment in the recovery of persons with a severe mental illness. In 1992, to further the development of self-help programs, Federal funding was used to support the first national self-help technical assistance centers directed by and for mental health consumers. Assistance to supporters of consumers was added to the program in 1998.

2.2 Service Population

The primary focus for activities of the Consumer/Peer-Run TACs must be individual's serious mental illnesses. These individuals should reflect a culturally and racially diverse population. Services must be provided to the full range of mental health consumers and must not be limited to specific subpopulations of adults with mental illness. In addition, outreach and assistance should be available to a range of stakeholders, including State mental health systems serving adults, consumer supporters, service providers, and the general public.

2.3 Tenets of Mental Health Self-Help

The values and philosophies that guide consumer self-help are the driving forces behind its development and success. SAMHSA expects these values and philosophies to be the cornerstone of programs funded under this announcement, including:

• Empowerment—grantees must promote the ability of consumers to make decisions that directly affect their own lives;

• Independence—grantees must support consumers in striving for self-reliance, and in pursuing opportunities to function as productive citizens;

• Responsibility—grantees must encourage individuals to take responsibility for themselves and others;

• Choice—grantees must promote an environment in which consumers can make informed choices about treatment, housing, and other services and supports;

• Respect and Dignity—grantees must promote the idea that all individuals are valued and have skills and strengths to offer society; and,

• Transformation—grantees must advocate for changes in how consumers/survivors are treated by the mental health system and society at large.

2.4 The Roles of Consumers and Consumer Supporters in the Program

Mental health consumer/survivor self-help is the process by which mental health consumers provide assistance to one another. This process involves both people with mental illnesses (i.e., “consumers”) as well as “consumer supporters” (individuals, such as parents, siblings, spouses and significant others who are involved with the support of the consumer).

The roles of consumers and consumer-supporters are distinct but share some common elements. Both serve an important role in providing opportunities for mental health consumers to assist one another.

Examples of the Role of Consumers:

• Providing mutual support to peers to facilitate recovery.

• Educating providers, community leaders, and others on the value of peer-run programs to transform mental health systems.

• Developing, administering, researching and evaluating peer-run programs.

• Partnering with providers, researchers, advocates and others to promote peer-run programs.

• Providing training and consultation to other consumer/peer-run programs to expand such approaches.

• Fostering the financing and human resource development of peer-run programs and the identification, dissemination and application of evidence based practices of peer-run programs.

Examples of the Role of Consumer Supporters:

• Educating professionals about the value of consumer/peer-run programs and self-help approaches;

• Assisting consumer/peer-run groups to obtain needed resources;

• Facilitating referrals to consumer/peer-run programs;

• Providing the necessary training, expertise and knowledge to consumers;

• Facilitating in the collection and dissemination of research findings, evaluation and data related to consumer/peer-run programs;

• Developing policies to foster consumer/peer-run programs through finances and human resource development (i.e. certification and credentialing); and,

• Identifying, disseminating and applying best practices on consumer/peer run programs.

2.5 Program Goals

Goals of the Consumer/Peer-Run TACs program include:

(1) Promoting skills development for consumers with an emphasis on leadership, business and management;

(2) Strengthening consumer organizations and leadership in communities;

(3) Improving collaboration among consumers, families, advocates, providers, administrators and build coalitions to transform community mental health services and supports;

(4) Increasing the opportunities for knowledge application and field-based skill building of self-management/self-help approaches; and,

(5) Increasing consumer participation in all aspects of mental health system transformation, including: planning, development, evaluation and policy formation.

2.6 Program Focus and Examples of Activities

Applicants must select two of the program foci listed below as areas of concentration for the proposed project. Although focus area number four is specifically dedicated to cultural outreach and self-help adaptation, all activities for selected focus areas must be culturally and linguistically appropriate for diverse service populations.

(1) Self-care/Self-management: Improving knowledge and information on best practices of consumer/peer-run programs and self-management approaches for people with serious mental illnesses. Examples of activities include: Analyzing and producing materials on self-help best practices; convening community stakeholders and providers to identify barriers to implementing exemplary models.

(2) Employment: Improving consumer workforce development. Examples of activities include: Providing technical assistance to State and local organizations on recruiting and retaining self-help practitioners; providing technical assistance to consumers reentering the job market; providing technical assistance on identifying financing mechanisms for hiring peer employees.

(3) Program Management and Administration: Facilitating business and management training and other skill development efforts for consumer/peer-run programs. Examples of activities include: Providing technical assistance to consumer organizations on non-profit management issues including leadership and financial management; developing and conducting training of trainers focused on skills development to promote self-help.

(4) Cultural Outreach and Self-Help Adaptation: Making self-help/self- management approaches available and accessible to specific cultural groups (e.g. African Americans, Hispanics/Latinos, Asian and Pacific Islanders, American Indians, and Alaska Natives). Examples include: Identifying models for serving diverse cultural groups; convening policy makers and consumer leaders to develop guidelines on how to serve ethnically diverse people.

(5) Recovery: Increasing the knowledge on what facilitates or hinders recovery at the individual, as well as systems level. Examples include: Serving as a repository for the collection, analysis and development of materials on recovery from mental illness; convening policy makers and community leaders to develop a strategic plan for the development of recovery-based approaches; educating supporters on the role they can play in facilitating the recovery of consumers.

2.7 Guidelines for Assessing Consumer and Family Participation

Applicants must have experience or a track record of involving mental health consumers. The applicant organization should have a documented history of positive programmatic involvement of recipients of mental health services. This involvement should be meaningful and span all aspects of the organization's activities as described below:

Program Mission—An organization's mission must reflect the value of involving consumers in order to improve outcomes.

Program Planning—Consumers are involved in substantial numbers in the conceptualization of initiatives including identifying community needs, goals and objectives, and innovative approaches. This includes participation in the development of the grant application for this program. Strategies must also incorporate consumer/peer-run program approaches.

Training and Staffing—The staff of the organization must have substantive training in and be familiar with consumer/peer-run program approaches and related issues. Attention must be placed on staffing the initiative with people who are themselves consumers. Such staff must be paid commensurate with their work and in parity with other staff.

Rights Protection—Consumers and family members must be fully informed of all their rights including those designated by the President's Healthcare Consumer Bill of Rights and Responsibilities: Respect and Non Discrimination.

Program Administration, Governance, and Policy Determination—Consumers must be hired in key management roles to provide project oversight and guidance. Steering Committees must be established for this project, which are composed of a minimum of 75% consumers. Such committee members should be fully trained and compensated for their activities, including childcare.

2.8 Definitions

CMHS has used the following definitions in developing this announcement:

Consumer—An individual, 18 years of age or older, with severe mental illness. CMHS recognizes that some consumers may choose to identify themselves with other terminology.

Consumer Supporter—An individual involved with the support of a consumer (age 18 or older), including parents, siblings, spouses and significant others, friends, co-workers, and neighbors, who provide support in a nonprofessional capacity.

Consumer Organization—An organization that is controlled and managed by consumers and is dedicated to the transformation of mental health service systems which are consumer and family driven. The organization must have a board of directors comprised of more than 50 percent consumers.

Consumer Supporter Organization—An organization, including volunteer mental health organizations, which is controlled and managed by consumer supporters and mental health consumers. It must be dedicated to the transformation of mental health service systems which are consumer and family driven and have a board of directors comprised of more than 50 percent consumer supporters.

2.9 Data and Performance Measurement

The Government Performance and Results Act of 1993 (Pub. L. 103-62, or “GPRA”) requires all Federal agencies to:

• Develop strategic plans that specify what they will accomplish over a 3- to 5-year period;

• Set performance targets annually related to their strategic plan; and,

• Report annually on the degree to which the previous year's targets were met.

Agencies are expected to evaluate their programs regularly and to use results of these evaluations to explain their successes and failures and justify requests for funding.

To meet these requirements, SAMHSA must collect performance data (i.e., “GPRA data”) from grantees. Grantees are required to report these GPRA data to SAMHSA on a timely basis.

GPRA measures related to each of the program focus areas referenced in Section I-2.6 in this announcement are under development. In your application, you must demonstrate your ability to collect and report on these measures, and you may be required to provide some baseline data.

More detailed information about how to collect and report on these measures may be obtained by contacting the Government Project Officer, listed in Section VII—“Agency Contacts” of this announcement.

The terms and conditions of the grant award will specify the data to be submitted and the schedule for submission. Grantees will be required to adhere to these terms and conditions of award.

2.10 Evaluation

Grantees will be required to participate in a collaborative assessment designed to evaluate the Consumer/Peer-Run TACs' effectiveness in providing technical assistance to foster consumer/peer-run programs. This evaluation will be managed by an external evaluator who will be responsible for reporting overall the findings to SAMHSA.

The current evaluation activities assess customer satisfaction by distributing a Customer Satisfaction Survey to any person who contacts the Consumer/Peer-Run TACs for assistance. Applicants should be aware that evaluation of the Consumer/Peer-Run TACs will be expanded to provide increased feedback to the project to improve services. Grantees will be required to participate in the additional evaluation activities.

2.11 Grantee Meetings

The Program or Project Director must plan to attend at least three meetings in each year of the grant, and must include funding for this travel in your budget. This includes two meetings of the Center for Mental Health Services National Advisory Council (including the pre-meeting of the Subcommittee on Consumer/Survivor issues) and the Alternatives Conference. These meetings will usually be held in the Washington, DC area and attendance is mandatory.

2.12 Alternatives Conference

Each of the three Consumer National Technical Assistance Centers will rotate as “host” for the annual national conference entitled “Alternatives,” a meeting of consumers from across the Nation. This conference is intended to present a variety of viewpoints, provide for the exchange of information and ideas, and provide technical assistance on many topics. The selection of the conference host for the first year of the grants will be determined by the score on Section G (Plan for Alternatives Conference) of the Project Narrative. In subsequent years, the selection of the host will be based on the next highest scores on Section G. Each grantee will host the conference at least once during the 3-year project period.

Since each Consumer TAC will host one Alternatives Conference during the project period, applications must include a budget for the Conference of $133,000. The money is for support of the conference and does not include scholarship support. Guidelines for Conducting the Alternatives Conference are in Appendix D. Consumer organizations may not apply only for facilitating the Alternatives Conference or only for the Consumer National Technical Assistance Center.

II. Award Information

1. Award Amount

It is expected that $1.75 million will be available to fund up to five National Technical Assistance Centers on Consumer/Peer-Run Program awards in FY 2004, three national consumer self-help technical assistance centers and two national consumer-supporter self-help technical assistance centers. Annual awards are expected to be up to $350,000 per year in total costs (direct and indirect). Applicants may request a project period of up to three years.

Proposed budgets cannot exceed $350,000 in any year of the proposed project. Annual continuation awards will depend on the availability of funds, grantee progress in meeting project goals and objectives, and timely submission of required data and reports.

An additional $133,000 will be competitively awarded each year to one of the three successful national consumer technical assistance centers to facilitate the Alternatives Conference. (See section entitled Alternatives Conference in Section V: Application Review).

2. Funding Mechanism

Awards will be made as grants.

III. Eligibility Information

1. Eligible Applicants

Eligible applicants are domestic, private, nonprofit entities, including faith-based organizations, which meet the criteria for consumer or consumer-supporter organizations found in Section I-2.7 Definitions and the following requirements:

(1) Applicant organizations must have been in operation for a minimum of one year.

(2) An applicant must complete the Certification of Consumer and Consumer-Supporter Organization Eligibility (See Appendix B of this document), indicating that the applicant meets all eligibility requirements. Applicants must complete and sign a Certification of Eligibility and provide necessary supportive documentation.

The statutory authority for this program precludes grants to for-profit organizations.

2. Cost-Sharing

Cost-sharing is not required in this program and applications will not be screened out on the basis of cost sharing. However, you may include cash or in-kind contributions in your proposal as evidence of commitment to the proposed project.

3. Other

Applications must comply with the following requirements or they will be screened out and will not be reviewed: Use of the PHS 5161-1 application; application submission requirements in Section IV-3 of this document; and formatting requirements provided in Section IV-2.3 of this document.

IV. Application and Submission Information

(To ensure that you have met all submission requirements, a checklist is provided for your use in Appendix A of this document.)

1. Address To Request Application Package

You may request a complete application kit by calling the National Mental Health Information Center at 1-800-789-CMHS (2647).

You also may download the required documents from the SAMHSA Web site at www.samhsa.gov. Click on “Grant Opportunities” then click on “Useful Information for Applicants.”

Additional materials available on this Web site include:

• A technical assistance manual for potential applicants;

• Standard terms and conditions for SAMHSA grants;

• Guidelines and policies that relate to SAMHSA grants (e.g., guidelines on cultural competence, consumer and family participation, and evaluation); and,

• Enhanced instructions for completing the PHS 5161-1 application.

2. Content and Form of Application Submission

2.1 Required Documents

SAMHSA application kits include the following documents:

• PHS 5161-1 (revised July 2000)—Includes the face page, budget forms, assurances, certification, and checklist. You must use the PHS 5161-1. Applications that are not submitted on the required application form will be screened out and will not be reviewed.

• Request for Applications (RFA)—Includes instructions for the grant application. This document is the RFA.

You must use all of the above documents in completing your application.

2.2 Required Application Components

To ensure equitable treatment of all applications, applications must be complete. In order for your application to be complete, it must include the required ten application components (Face Page, Abstract, Table of Contents, Budget Form, Project Narrative and Supporting Documentation, Appendices, Assurances, Certifications, Disclosure of Lobbying Activities, and Checklist).

• Face Page—Use Standard Form (SF) 424, which is part of the PHS 5161-1. [Note: Beginning October 1, 2003, applicants will need to provide a Dun and Bradstreet (DUNS) number to apply for a grant or cooperative agreement from the Federal Government. SAMHSA applicants will be required to provide their DUNS number on the face page of the application. Obtaining a DUNS number is easy and there is no charge. To obtain a DUNS number, access the Dun and Bradstreet Web site at www.dunandbradstreet.com or call 1-866-705-5711. To expedite the process, let Dun and Bradstreet know that you are a public/private nonprofit organization getting ready to submit a Federal grant application.]

• Abstract—Your total abstract should not be longer than 35 lines. In the first five lines or less of your abstract, write a summary of your project that can be used, if your project is funded, in publications, reporting to Congress, or press releases.

• Table of Contents—Include page numbers for each of the major sections of your application and for each appendix.

• Budget Form—Use SF 424A, which is part of the 5161-1. Fill out Sections B, C, and E of the SF 424A.

• Project Narrative and Supporting Documentation— The Project Narrative describes your project. It consists of Sections A-F for national consumer supporter technical assistance centers and Sections A-G for the national consumer technical assistance centers. The Project Narrative for Sections A-F in total may not be longer than 25 pages. The Project Narrative for Section G may not exceed 3 additional pages. More detailed instructions for completing each section of the Project Narrative are provided in “Section V—Application Review Information” of this document.

The Supporting Documentation provides additional information necessary for the review of your application. This supporting documentation should be provided immediately following your Project Narrative in Sections H through I. There are no page limits for these sections, except for Section F, Biographical Sketches/Job Descriptions.

• Section H—Budget Justification, Existing Resources, Other Support. You must provide a narrative justification of the items included in your proposed budget, as well as a description of existing resources and other support you expect to receive for the proposed project.

• Section I—Biographical Sketches and Job Descriptions.

—Include a biographical sketch for the Project Director and other key positions. Each sketch should be 2 pages or less. If the person has not been hired, include a letter of commitment from the individual with a current biographical sketch.

—Include job descriptions for key personnel. Job descriptions should be no longer than 1 page each.

—Sample sketches and job descriptions are listed on page 22, Item 6 in the Program Narrative section of the PHS 5161-1.

• Appendices 1 through 5—Use only the appendices listed below. Do not use more than 30 pages for the appendices. Do not use appendices to extend or replace any of the sections of the Project Narrative. Reviewers will not consider them if you do.

—Appendix 1: Letters of Support

—Appendix 2: Certificate of Eligibility

—Appendix 3: Sample Consent Forms

—Appendix 4: Data Collection Instruments/Interview Protocols

—Appendix 5: Letter to the SSA

• Assurances—Non-Construction Programs. Use Standard Form 424B found in PHS 5161-1.

• Certifications—Use the “Certifications” forms found in PHS 5161-1.

• Disclosure of Lobbying Activities—Use Standard Form LLL found in the PHS 5161-1. Federal law prohibits the use of appropriated funds for publicity or propaganda purposes, or for the preparation, distribution, or use of the information designed to support or defeat legislation pending before the Congress or State legislatures. This includes “grass roots” lobbying, which consists of appeals to members of the public suggesting that they contact their elected representatives to indicate their support for or opposition to pending legislation or to urge those representatives to vote in a particular way.

• Checklist—Use the Checklist found in PHS 5161-1. The Checklist ensures that you have obtained the proper signatures, assurances and certifications and is the last page of your application.

2.3 Application Formatting Requirements

Applicants also must comply with the following basic application requirements. Applications that do not comply with these requirements will be screened out and will not be reviewed.

• Information provided must be sufficient for review.

• Text must be legible.

—Type size in the Project Narrative cannot exceed an average of 15 characters per inch, as measured on the physical page. (Type size in charts, tables, graphs, and footnotes will not be considered in determining compliance.)

—Text in the Project Narrative cannot exceed 6 lines per vertical inch.

• Paper must be white paper and 8.5 inches by 11.0 inches in size.

• To ensure equity among applications, the amount of space allowed for the Project Narrative cannot be exceeded.

—Applications would meet this requirement by using all margins (left, right, top, bottom) of at least one inch each, and adhering to the 25-page limit for the Project Narrative (Sections A through F) and 3-page limit for Section G.

—Should an application not conform to these margin or page limits, SAMHSA will use the following method to determine compliance: The total area of the Project Narrative (excluding margins, but including charts, tables, graphs and footnotes) cannot exceed 58.5 square inches multiplied by 25 (or 28). This number represents the full page less margins, multiplied by the total number of allowed pages.

—Space will be measured on the physical page. Space left blank within the Project Narrative (excluding margins) is considered part of the Project Narrative, in determining compliance.

• The 30-page limit for Appendices 1 through 5 cannot be exceeded.

To facilitate review of your application, follow these additional guidelines. Failure to adhere to the following guidelines will not, in itself, result in your application being screened out and returned without review. However, following these guidelines will help reviewers to consider your application.

• Pages should be typed single-spaced with one column per page.

• Pages should not have printing on both sides.

• Please use black ink and number pages consecutively from beginning to end so that information can be located easily during review of the application. The cover page should be page 1, the abstract page should be page 2, and the table of contents page should be page 3. Appendices should be labeled and separated from the Project Narrative and budget section, and the pages should be numbered to continue the sequence.

Send the original application and two copies to the mailing address in Section IV-6.1 of this document. Please do not use staples, paper clips, and fasteners. Nothing should be attached, stapled, folded, or pasted. Do not use heavy or lightweight paper or any material that cannot be copied using automatic copying machines. Odd-sized and oversized attachments such as posters will not be copied or sent to reviewers. Do not include videotapes, audiotapes, or CD-ROMs.

2.4 SAMHSA Confidentiality and Participant Protection Requirements and Protection of Human Subjects Regulations

You must describe your procedures relating to Confidentiality, Participant Protection and the Protection of Human Subjects Regulations in Section H of your application, using the guidelines provided below. Problems with confidentiality, participant protection, and protection of human subjects identified during peer review of your application may result in the delay of funding.

Confidentiality and Participant Protection: All applicants must address each of the following elements relating to confidentiality and participant protection. You must document how you will address these requirements or why they do not apply.

1. Protect Clients and Staff from Potential Risks

• Identify and describe any foreseeable physical, medical, psychological, social, legal, or other risks or adverse affects.

• Discuss risks that are due either to participation in the project itself or to the evaluation activities.

• Describe the procedures you will follow to minimize or protect participants against potential risks, including risks to confidentiality.

• Identify plans to provide help if there are adverse effects to participants.

• Where appropriate, describe alternative treatments and procedures that may be beneficial to the participants. If you choose not to use these other beneficial treatments, provide the reasons for not using them.

2. Fair Selection of Participants

• Describe the target population(s) for the proposed project. Include age, gender, and racial/ethnic background and note if the population includes homeless youth, foster children, children of substance abusers, pregnant women, or other groups.

• Explain the reasons for including groups of pregnant women, children, people with mental disabilities, people in institutions, prisoners, or others who are likely to be vulnerable to HIV/AIDS.

• Explain the reasons for including or excluding participants.

• Explain how you will recruit and select participants. Identify who will select participants.

3. Absence of Coercion

• Explain if participation in the project is voluntary or required. Identify possible reasons why it is required, for example, court orders requiring people to participate in a program.

• If you plan to pay participants, state how participants will be awarded money or gifts.

• State how volunteer participants will be told that they may receive services even if they do not participate in the project.

4. Data Collection

• Identify from whom you will collect data (e.g., from participants themselves, family members, teachers, others). Describe the data collection procedures and specify the sources for obtaining data (e.g., school records, interviews, psychological assessments, questionnaires, observation, or other sources). Where data are to be collected through observational techniques, questionnaires, interviews, or other direct means, describe the data collection setting.

• Identify what type of specimens (e.g., urine, blood) will be used, if any. State if the material will be used just for evaluation or if other use(s) will be made. Also, if needed, describe how the material will be monitored to ensure the safety of participants.

• Provide in Appendix 2, “Data Collection Instruments/Interview Protocols,” copies of all available data collection instruments and interview protocols that you plan to use.

5. Privacy and Confidentiality

• Explain how you will ensure privacy and confidentiality. Include who will collect data and how it will be collected.

• Describe:

—How you will use data collection instruments.

—Where data will be stored.

—Who will or will not have access to information.

—How the identity of participants will be kept private, for example, through the use of a coding system on data records, limiting access to records, or storing identifiers separately from data.

Note: If applicable, grantees must agree to maintain the confidentiality of alcohol and drug abuse client records according to the provisions of Title 42 of the Code of Federal Regulations, Part II.

6. Adequate Consent Procedures

• List what information will be given to people who participate in the project. Include the type and purpose of their participation. Identify the data that will be collected, how the data will be used and how you will keep the data private.

• State:

—Whether or not their participation is voluntary.

—Their right to leave the project at any time without problems.

—Possible risks from participation in the project.

—Plans to protect clients from these risks.

• Explain how you will get consent for youth, the elderly, people with limited reading skills, and people who do not use English as their first language.

Note: If the project poses potential physical, medical, psychological, legal, social or other risks, you must get written informed consent.

• Indicate if you will get informed consent from participants or from their parents or legal guardians. Describe how the consent will be documented. For example: Will you read the consent forms? Will you ask prospective participants questions to be sure they understand the forms? Will you give them copies of what they sign?

• Include sample consent forms in your Appendix 3, “Sample Consent Forms.” If needed, give English translations.

Note: Never imply that the participant waives or appears to waive any legal rights, may not end involvement with the project, or releases your project or its agents from liability for negligence.

• Describe if separate consents will be obtained for different stages or parts of the project. For example, will they be needed for both participant protection in treatment intervention and for the collection and use of data.

• Additionally, if other consents (e.g., consents to release information to others or gather information from others) will be used in your project, provide a description of the consents. Will individuals who do not consent to having individually identifiable data collected for evaluation purposes be allowed to participate in the project?

7. Risk/Benefit Discussion

Discuss why the risks are reasonable compared to expected benefits and importance of the knowledge from the project.

Protection of Human Subjects Regulations. Depending on the evaluation design you proposed in your application, you may have to comply with the Protection of Human Subjects Regulations (45 CFR part 46).

Applicants whose projects must comply with the Protection of Human Subjects Regulations must describe the process for obtaining Institutional Review Board (IRB) approval fully in their applications. While IRB approval is not required at the time of grant award, these applicants will be required, as a condition of award, to provide the documentation that an Assurance of Compliance is on file with the Office for Human Research Protections (OHRP) and that IRB approval has been received prior to enrolling any clients in the proposed project.

Additional information about Protection of Human Subjects Regulations can be obtained on the web at http://ohrp.osophs.dhhs.gov. You may also contact OHRP by e-mail (ohrp@osophs.dhhs.gov) or by phone (301-496-7005).

3. Submission Times and Dates

Applications are due by close of business on June 25, 2004. Your application must be received by the application deadline. Applications sent through postal mail and received after this date must have a proof-of-mailing date from the carrier dated at least 1 week prior to the due date. Private metered postmarks are not acceptable as proof of timely mailing.

You will be notified by postal mail that your application has been received.

Applications not received by the application deadline or not postmarked by a week prior to the application deadline will be screened out and will not be reviewed.

4. Intergovernmental Review (E.O. 12372) Instructions

Executive Order 12372, as implemented through Department of Health and Human Services (DHHS) regulation at 45 CFR Part 100, sets up a system for State and local review of applications for Federal financial assistance. A current listing of State Single Points of Contact (SPOCs) is included in the application kit and can be downloaded from the Office of Management and Budget (OMB) Web site at www.whitehouse.gov/omb/grants/spoc.html.

• Check the list to determine whether your State participates in this program. You do not need to do this if you are a federally recognized Indian tribal government.

• If your State participates, contact your SPOC as early as possible to alert him/her to the prospective application(s) and to receive any necessary instructions on the State's review process.

• For proposed projects serving more than one State, you are advised to contact the SPOC of each affiliated State.

• The SPOC should send any State review process recommendations to the following address within 60 days of the application deadline: Substance Abuse and Mental Health Services Administration, Office of Program Services, Review Branch, 5600 Fishers Lane, Room 17-89, Rockville, Maryland, 20857, ATTN: SPOC—Funding Announcement No. (SM 04-002).

In addition, community-based, non-governmental service providers who are not transmitting their applications through the State must submit a Public Health System Impact Statement (PHSIS) (approved by OMB under control no. 0920-0428; see burden statement below) to the head(s) of appropriate State or local health agencies in the area(s) to be affected no later than the pertinent receipt date for applications. The PHSIS is intended to keep State and local health officials informed of proposed health services grant applications submitted by community-based, non-governmental organizations within their jurisdictions. State and local governments and Indian tribal government applicants are not subject to these requirements.

The PHSIS consists of the following information:

• A copy of the face page of the application (SF 424); and

• A summary of the project, no longer than one page in length, that provides: 1) a description of the population to be served, 2) a summary of the services to be provided, and 3) a description of the coordination planned with appropriate State or local health agencies.

For SAMHSA grants, the appropriate State agencies are the Single State Agencies (SSAs) for substance abuse and mental health. A listing of the SSAs can be found on SAMHSA's Web site at www.samhsa.gov. If the proposed project falls within the jurisdiction of more than one State, you should notify all representative SSAs.

Applicants who are not the SSA must include a copy of a letter transmitting the PHSIS to the SSA in Appendix 5, “Letter to the SSA.” The letter must notify the State that, if it wishes to comment on the proposal, its comments should be sent not later than 60 days after the application deadline to: Substance Abuse and Mental Health Services Administration, Office of Program Services, Review Branch, 5600 Fishers Lane, Room 17-89, Rockville, Maryland 20857, ATTN: SSA—Funding Announcement No. SM 04-011.

In addition:

• Applicants may request that the SSA send them a copy of any State comments.

• The applicant must notify the SSA within 30 days of receipt of an award.

[Public reporting burden for the Public Health System Reporting Requirement is estimated to average 10 minutes per response, including the time for copying the face page of SF 424 and the abstract and preparing the letter for mailing. An agency may not conduct or sponsor, and a person is not required to respond to, a collection of information unless it displays a currently valid OMB control number. The OMB control number for this project is 0920-0428. Send comments regarding this burden to CDC Clearance Officer, 1600 Clifton Road, MS D-24, Atlanta, GA 30333, ATTN: PRA (0920-0428).]

5. Funding Restrictions

Cost principles describing allowable and unallowable expenditures for Federal grantees, including SAMHSA grantees, are provided in the following documents:

• Institutions of Higher Education: OMB Circular A-21

• State and Local Governments: OMB Circular A-87

• Nonprofit Organizations: OMB Circular A-122

• Appendix E Hospitals: 45 CFR Part 74

In addition, SAMHSA National Technical Assistance Centers On Consumer/Peer-Run Programs Grant recipients must comply with the following funding restrictions:

• Grant funds must be used for purposes supported by the program.

• Grant funds may not be used to pay for the purchase or construction of any building or structure to house any part of the grant project.

6. Other Submission Requirements

6.1 Where To Send Applications

Send applications to the following address: Substance Abuse and Mental Health Services Administration, Office of Program Services, Review Branch, 5600 Fishers Lane, Room 17-89, Rockville, Maryland 20857.

Be sure to include the short title and funding announcement number (Consumer/Peer-Run TACs, SM 04-011) and designate whether you are applying for a Consumer National Technical Assistance Center or a Consumer Supporter National Technical Assistance Center in item number 10 on the face page of the application. If you require a phone number for delivery, you may use (301) 443-4266.

6.2 How To Send Applications

Mail an original application and 2 copies (including appendices) to the mailing address provided above. The original and copies must not be bound. Do not use staples, paper clips, or fasteners. Nothing should be attached, stapled, folded, or pasted.

You must use a recognized commercial or governmental carrier. Hand carried applications will not be accepted. Faxed or e-mailed applications will not be accepted.

V. Application Review Information

1. Evaluation Criteria

Your application will be reviewed and scored against the requirements listed below for developing the Project Narrative Sections A-F for applicants applying for a consumer supporter National Technical Assistance Center or Sections A-G for applicants applying for a consumer National Technical Assistance Center. Sections A-F describe what you intend to do with your project and may not exceed 25 pages. Section G describes the plan for the Alternatives Conference and may not exceed 3 additional pages.

• In developing the Project Narrative section of your application, use these instructions, which have been tailored to this program. These are to be used instead of the “Program Narrative” instructions found in the PHS 5161-1.

• You must use the seven sections/headings listed below in developing your Project Narrative. Be sure to place the required information in the correct section, or it will not be considered. Your application will be scored according to how well you address the requirements for each section.

• Reviewers will be looking for evidence of cultural competence in each section of the Project Narrative. Points will be assigned based on how well you address the cultural competence aspects of the evaluation criteria. SAMHSA's guidelines for cultural competence can be found on the SAMHSA Web site at www.samhsa.gov. Click on “Grant Opportunities.”

• The Supporting Documentation you provide in Sections H-I and Appendices 1-5 will be considered by reviewers in assessing your response, along with the material in the Project Narrative.

• The number of points after each heading below is the maximum number of points a review committee may assign to that section of your Project Narrative. Bullet statements in each section do not have points assigned to them. They are provided to invite the attention of applicants and reviewers to important areas within each section.

• Only the points in Section A-F will be used to determine the priority score for the Consumer Technical Assistance Center awards. Section G will be used to select the host for the Alternatives Conference. The Consumer Technical Assistance Center with the highest score on Section G will be given the first opportunity to host the next Conference and the Conference host will be rotated to the other Consumer TACs for years 2 and 3 of the grant program.

Section A: Understanding of the Philosophy & Principals of the Project (25 points)

• Describe the specifics of how your organization has integrated and embraced the tenets of the mental health self-help movement, philosophies and fundamental principals described in Section I-2.3 of this Announcement and how consumers and family members have been involved in the activities of your organization.

• Describe what you consider to be your organization's unique characteristics and capabilities to provide the leadership as either a national consumer or consumer supporter technical assistance center, including your organization's history and experience in providing leadership in the field for consumer/peer-run programs for people with a serious mental illness.

• Provide data on the total number of employees (full and part-time) in your organization and any parent organization, and the number and percent that are consumers and consumer supporters.

• Describe the ethnic and cultural diversity within your organization. Indicate whether any staff members are fluent in languages other than English and indicate the languages they can read, write, speak, and understand in conversation.

• Describe the types and amount of technical assistance services your organization currently provides to consumers and consumer supporters, stakeholders of the mental health system, including faith- and community-based organizations (representing diverse racial, ethnic, and cultural groups), and mental health providers.

• Describe the service population for technical assistance. Include numbers to be served and demographic information. Discuss the target population's language, beliefs, norms and values, as well as socioeconomic factors that must be considered in delivering technical assistance to this population.

Section B: Understanding of the Project/Materials Development (20 points)

• Clearly identify which two (2) of the “Program Focus” topics (referenced in Section I-2.6 of this announcement) your organization will concentrate on for this project and include a description of how cultural and linguistic issues will be addressed.

• Clearly state the purpose of the proposed project and how it will address the stated problem/issue and assist in achieving the goals of the program.

• Describe specific approaches for accomplishing the goals outlined in Section I-2.5 (Program Goals) of this announcement, including how these approaches will be culturally and linguistically appropriate for a diverse service population.

• List and briefly describe materials you will develop, describe your plan for disseminating these materials, and identify how these products will be tailored to the cultural and linguistic needs of the select audience.

• Describe the technological systems you will use to serve as a repository and procedures for stakeholders to access these materials in a timely manner.

• Describe your organization's experience in producing and disseminating self-help/self-management materials to multiple stakeholder groups.

• Describe your organization's experience in organizing, planning, and conducting small working meetings.

• Describe the resources available and the capabilities of your organization for synthesizing, summarizing and producing documents that are visually appealing, culturally and linguistically relevant, using maps and graphics, as appropriate.

Section C: Provision of Consultation and Training (20 points)

• Describe your plans for providing consultation, training, and technical assistance to a diverse group of stakeholders.

• Describe your plans for developing training curricula and strategies for making sure the training materials are culturally and linguistically appropriate.

• Describe your plans for developing and using web site and other web technology to disseminate materials and information.

• Describe the resources available and the capabilities of your organization for developing and operating a web site and using other Internet telecommunications technology.

Section D: Stakeholder Engagement (15 points)

• Describe the process you will use to solicit input from a culturally diverse group of stakeholders regarding the development and dissemination of materials and other technical assistance services and activities.

• Describe the process you will use to identify and reach culturally diverse populations (e.g., African Americans, Hispanics/Latinos, Asian & Pacific Islanders, American Indians, and Alaska Natives) for input into your Center's activities.

• Identify issues that will be important topics of discussion for the field. Describe which issue is most important for each stakeholder group and how you will engage the stakeholders in such discussions.

• Describe your plan to make relevant stakeholders aware of your TA Center and the activities, services, and materials available.

• Describe the resources available and the capabilities of your organization for promoting, participating in, and convening discussions among stakeholders about topics of importance.

Section E: Organizational Capabilities and Project Management Plan (15 points)

• Describe your plans for organizing the TA Center, including the organizational structure, allocation of resources, and staffing plans that reflect the expertise needed and consultants who supplement the staff.

• Describe the process and system you will use to ensure, prioritize, track and follow-up requests for products and technical assistance services and activities.

Section F: Evaluation Plan Methodology (5 points)

• Grantees must describe their plans for collecting and reporting on the required GPRA measures.

• Describe how you will incorporate, manage and as necessary change your project to incorporate and respond to issues raised by the external evaluation.

Note: Although the budget for the proposed project is not a review criterion, the Review Group will be asked to comment on the appropriateness of the budget after the merits of the application have been considered.

Section G: Plan for the Alternatives Conference (25 points)

This section is to be answered only by applicants applying for funding for a National Consumer Technical Assistance Center. The score will only be used to select the conference host for the first year of the grant.

• Describe your organization's experience in organizing, planning, and conducting very large conferences and meetings.

• Describe your experience with certified meeting planners and how you would choose such an individual or organization.

• Describe how you would develop the theme for the Conference.

• Describe the process for selecting the steering committee.

• Describe the process for planning the conference and selecting the location and the hotel.

• Identify issues you feel should be important topics for the next Alternatives Conference.

• Describe the resources available and the capabilities of your organization for planning, organizing, and implementing the Conference.

• Describe the procedure for rating workshops.

2. Review and Selection Process

SAMHSA applications are peer-reviewed according to the evaluation criteria listed above. Applications for programs having individual awards over $100,000 must also be reviewed by the appropriate National Advisory Council.

Decisions to fund a grant are based on:

• The strengths and weaknesses of the application as identified by peer reviewers and, when applicable, approved by the appropriate National Advisory Council;

• Availability of funds;

• Equitable distribution of awards in terms of geography (including urban, rural and remote settings) and balance among target populations and program size;

• Distribution of awards to support implementation of varied program focus areas; and,

• After applying the aforementioned criteria, the following method for breaking ties: When funds are not available to fund all applications with identical scores, SAMHSA will make award decisions based on the application(s) that received the greatest number of points by peer reviewers on the evaluation criterion in Section V-1 with the highest number of possible points Understanding of the Philosophy & Principals of the Project—25 points.

Should a tie still exist, the evaluation criterion with the next highest possible point value will be used, continuing sequentially to the evaluation criterion with the lowest possible point value, should that be necessary to break all ties. If an evaluation criterion to be used for this purpose has the same number of possible points as another evaluation criterion, the criterion listed first in Section V-1 will be used first.

VI. Award Administration Information

1. Award Notices

After your application has been reviewed, you will receive a letter from SAMHSA through postal mail that describes the general results of the review, including the score that your application received.

If you are approved for funding, you will receive an additional notice, the Notice of Grant Award, signed by SAMHSA's Grants Management Officer. The Notice of Grant Award is the sole obligating document that allows the grantee to receive Federal funding for work on the grant project. It is sent by postal mail and is addressed to the contact person listed on the face page of the application.

If you are not funded, you can re-apply if there is another receipt date for the program.

2. Administrative and National Policy Requirements

• You must comply with all terms and conditions of the grant award. SAMHSA's standard terms and conditions are available on the SAMHSA Web site www.samhsa.gov/grants/2004/useful_info.asp.

• Depending on the nature of the specific funding opportunity and/or the proposed project as identified during review, additional terms and conditions may be negotiated with the grantee prior to grant award. These may include, for example:

—Actions required to be in compliance with human subjects requirements;

—Requirements relating to additional data collection and reporting;

—Requirements relating to participation in a cross-site evaluation; or

—Requirements to address problems identified in review of the application.

• You will be held accountable for the information provided in the application relating to performance targets. SAMHSA program officials will consider your progress in meeting goals and objectives, as well as your failures and strategies for overcoming them, when making an annual recommendation to continue the grant and the amount of any continuation award. Failure to meet stated goals and objectives may result in suspension or termination of the grant award, or in reduction or withholding of continuation awards.

• In an effort to improve access to funding opportunities for applicants, SAMHSA is participating in the U.S. Department of Health and Human Services “Survey on Ensuring Equal Opportunity for Applicants.” This survey is included in the application kit for SAMHSA grants. Applicants are encouraged to complete the survey and return it, using the instructions provided on the survey form.

3. Reporting Requirements

3.1 Progress and Financial Reports

• Grantees must provide annual and final progress reports. The final progress report must summarize information from the annual reports, describe the accomplishments of the project, and describe next steps for implementing plans developed during the grant period.

• Grantees must provide annual and final financial status reports. These reports may be included as separate sections of annual and final progress reports or can be separate documents. Because SAMHSA is extremely interested in ensuring that infrastructure development and enhancement efforts can be sustained, your financial reports must explain plans to ensure the sustainability of efforts initiated under this grant. Initial plans for sustainability should be described in year 1 of the grant. In each subsequent year, you should describe the status of the project, successes achieved and obstacles encountered in that year.

• SAMHSA will provide guidelines and requirements for these reports to grantees at the time of award and at the initial grantee orientation meeting after award. SAMHSA staff will use the information contained in the reports to determine the grantee's progress toward meeting its goals.

3.2 Government Performance and Results Act

The Government Performance and Results Act (GPRA) mandates accountability and performance-based management by Federal agencies. The performance requirements for SAMHSA's Grants for National Technical Assistance Centers On Consumer/Peer-Run Programs grants are described in Section I—2.9 under “Data and Performance Measurement”.

3.3 Publications

If you are funded under this grant program, you are required to notify the Government Project Officer (GPO) and SAMHSA's Publications Clearance Officer (301-443-8596) of any materials based on the SAMHSA-funded project that are accepted for publication.

In addition, SAMHSA requests that grantees:

• Provide the GPO and SAMHSA Publications Clearance Officer with advance copies of publications.

• Include acknowledgment of the SAMHSA grant program as the source of funding for the project.

• Include a disclaimer stating that the views and opinions contained in the publication do not necessarily reflect those of SAMHSA or the U.S. Department of Health and Human Services, and should not be construed as such.

SAMHSA reserves the right to issue a press release about any publication deemed by SAMHSA to contain information of program or policy significance to the substance abuse treatment/substance abuse prevention/mental health services community.

VII. Agency Contacts

For questions about program issues, contact: Risa S. Fox, M.S., Public Health Advisor, Center for Mental Health Services, SAMHSA, 5600 Fishers Lane, Room 11C-22, Rockville, MD 20857, (301) 443-3653, E-mail: rfox@samhsa.gov.

For questions on grants management issues, contact: Gwendolyn Simpson, Office of Program Services, Division of Grants Management, Substance Abuse and Mental Health Services Administration/OPS, 5600 Fishers Lane, Rockville, MD 20857, (301) 443-4456, E-mail: gsimpson@samhsa.gov.

Appendix A—Checklist for Formatting Requirements and Screenout Criteria for SAMHSA Grant Applications

SAMHSA's goal is to review all applications submitted for grant funding. However, this goal must be balanced against SAMHSA's obligation to ensure equitable treatment of applications. For this reason, SAMHSA has established certain formatting requirements for its applications. If you do not adhere to these requirements, your application will be screened out and returned to you without review. In addition to these formatting requirements, programmatic requirements (e.g., relating to eligibility) may be stated in the specific funding announcement. Please check the entire funding announcement before preparing your application.

• Use the PHS 5161-1 application.

• Applications must be received by the application deadline. Applications received after this date must have a proof of mailing date from the carrier dated at least 1 week prior to the due date. Private metered postmarks are not acceptable as proof of timely mailing. Applications not received by the application deadline or not postmarked at least 1 week prior to the application deadline will not be reviewed.

• Information provided must be sufficient for review.

• Text must be legible.

—Type size in the Project Narrative cannot exceed an average of 15 characters per inch, as measured on the physical page. (Type size in charts, tables, graphs, and footnotes will not be considered in determining compliance.)

—Text in the Project Narrative cannot exceed 6 lines per vertical inch.

• Paper must be white paper and 8.5 inches by 11.0 inches in size.

• To ensure equity among applications, the amount of space allowed for the Project Narrative cannot be exceeded.

—Applications would meet this requirement by using all margins (left, right, top, bottom) of at least one inch each, and adhering to the page limit for the Project Narrative stated in the specific funding announcement.

—Should an application not conform to these margin or page limits, SAMHSA will use the following method to determine compliance: The total area of the Project Narrative (excluding margins, but including charts, tables, graphs and footnotes) cannot exceed 58.5 square inches multiplied by the total number of allowed pages. This number represents the full page less margins, multiplied by the total number of allowed pages.

—Space will be measured on the physical page. Space left blank within the Project Narrative (excluding margins) is considered part of the Project Narrative, in determining compliance.

• The page limit for Appendices stated in the specific funding announcement cannot be exceeded.

To facilitate review of your application, follow these additional guidelines. Failure to adhere to the following guidelines will not, in itself, result in your application being screened out and returned without review. However, the information provided in your application must be sufficient for review. Following these guidelines will help ensure your application is complete, and will help reviewers to consider your application.

• The 10 application components required for SAMHSA applications should be included. These are:

—Face Page (Standard Form 424, which is in PHS 5161-1)

—Abstract

—Table of Contents

—Budget Form (Standard Form 424A, which is in PHS 5161-1)

—Project Narrative and Supporting Documentation

—Appendices

—Assurances (Standard Form 424B, which is in PHS 5161-1)

—Certifications (a form within PHS 5161-1)

—Disclosure of Lobbying Activities (Standard Form LLL, which is in PHS 5161-1)

—Checklist (a form in PHS 5161-1)

• Applications should comply with the following requirements:

—Provisions relating to confidentiality, participant protection and the protection of human subjects specified in Section IV-2.4 of the specific funding announcement.

—Budgetary limitations as specified in Sections I, II, and IV-5 of the specific funding announcement.

—Documentation of nonprofit status as required in the PHS 5161-1.

• Pages should be typed single-spaced with one column per page.

• Pages should not have printing on both sides.

• Please use black ink and number pages consecutively from beginning to end so that information can be located easily during review of the application. The cover page should be page 1, the abstract page should be page 2, and the table of contents page should be page 3. Appendices should be labeled and separated from the Project Narrative and budget section, and the pages should be numbered to continue the sequence.

• Send the original application and two copies to the mailing address in the funding announcement. Please do not use staples, paper clips, and fasteners. Nothing should be attached, stapled, folded, or pasted. Do not use heavy or lightweight paper or any material that cannot be copied using automatic copying machines. Odd-sized and oversized attachments such as posters will not be copied or sent to reviewers. Do not include videotapes, audiotapes, or CD-ROMs.

Appendix B: Glossary

Best Practice: Best practices are practices that incorporate the best objective information currently available from recognized experts regarding effectiveness and acceptability.

Consumer-Operated Services: These programs, run by consumers, include drop-in centers, consumer operated supported businesses, employment and housing programs, crisis services, outreach programs and case management programs.

Cooperative Agreement: A cooperative agreement is a form of Federal grant. Cooperative agreements are distinguished from other grants in that, under a cooperative agreement, substantial involvement is anticipated between the awarding office and the recipient during performance of the funded activity. This involvement may include collaboration, participation, or intervention in the activity. HHS awarding offices use grants or cooperative agreements (rather than contracts) when the principal purpose of the transaction is the transfer of money, property, services, or anything of value to accomplish a public purpose of support or stimulation authorized by Federal statute. The primary beneficiary under a grant or cooperative agreement is the public, as opposed to the Federal Government.

Cost-Sharing or Matching: Cost-sharing refers to the value of allowable non-Federal contributions toward the allowable costs of a Federal grant project or program. Such contributions may be cash or in-kind contributions. For SAMHSA grants, cost-sharing or matching is not required, and applications will not be screened out on the basis of cost-sharing. However, applicants often include cash or in-kind contributions in their proposals as evidence of commitment to the proposed project. This is allowed, and this information may be considered by reviewers in evaluating the quality of the application.

Culturally competent services: The delivery of services that are responsive to the cultural concerns of racial and ethnic minority groups, including their language, histories, traditions, beliefs, and values.

Emerging Practice: Emerging practices are specific approaches that receive high marks from consumers and/or others, but which are too new to have received scientific attention.

Grant: A grant is the funding mechanism used by the Federal Government when the principal purpose of the transaction is the transfer of money, property, services, or anything of value to accomplish a public purpose of support or stimulation authorized by Federal statute. The primary beneficiary under a grant or cooperative agreement is the public, as opposed to the Federal Government.

In-Kind Contribution: In-kind contributions toward a grant project are non-cash contributions (e.g., facilities, space, services) that are derived from non-Federal sources, such as State or sub-State non-Federal revenues, foundation grants, or contributions from other non-Federal public or private entities.

National Registry of Effective Programs (NREP): The NREP was developed to review, identify and disseminate effective evidence-based practices for substance abuse prevention programs.

Peer Support: Peer Support embodies a variety of approaches that are based on the belief that people who share the same illness can help each other through mutual support. These practices and programs are lead by peers rather than by professionals.

Practice: A practice is any activity, or collective set of activities, intended to improve outcomes for people with or at risk for substance abuse and/or mental illness. Such activities may include direct service provision, or they may be supportive activities, such as efforts to improve access to and retention in services, organizational efficiency or effectiveness, community readiness, collaboration among stakeholder groups, education, awareness, training, or any other activity that is designed to improve outcomes for people with or at risk for substance abuse or mental illness.

Practice Support System: This term refers to contextual factors that affect practice delivery and effectiveness in the pre-adoption phase, delivery phase, and post-delivery phase, such as a) community collaboration and consensus building, b) training and overall readiness of those implementing the practice, and c) sufficient ongoing supervision for those implementing the practice.

The President's New Freedom Commission on Mental Health entitled “Achieving the Promise: Transforming Mental Health Care in America” identified primary six goals:

Goal 1: Americans Understand that Mental Health Is Essential to Overall Health.

Goal 2: Mental Health Care Is Consumer and Family Driven.

Goal 3: Disparities in Mental Health Services Are Eliminated.

Goal 4: Early Mental Health Screening, Assessment, and Referral to Services Are Common Practice.

Goal 5: Excellent Mental Health Care Is Delivered and Research Is Accelerated.

Goal 6: Technology Is Used to Access Mental Health Care and Information.

Achieving these goals will transform mental health care in America.

Promising Practice: Promising practices are practices that are well known and have either expert consensus or other support which show promise in improving outcomes for consumers.

Recovery: Refers to the process in which people are able to live, work, learn, and participate fully in their communities. For some individuals, recovery is the ability to live a fulfilling and productive life despite a disability. For others, recovery implies reduction or complete remission of symptoms. Science has shown that having hope plays an integral role in an individual's recovery.

Resilience: Means the personal and community qualities that enable us to rebound from adversity, trauma, tragedy, threats, or other stresses—and to go on with life with a sense of mastery, competence, and hope. We now understand from research that resilience is fostered by a positive childhood and includes positive individual traits, such as optimism, good problem-solving skills, and treatments. Closely-knit communities and neighborhoods are also resilient, providing supports for their members.

Stakeholder: A stakeholder is an individual, organization, constituent group, or other entity that has an interest in and will be affected by a proposed grant project.

Stigma: Refers to a cluster of negative attitudes and beliefs that motivate the general public to fear, reject, avoid, and discriminate against people with mental illnesses. Stigma is widespread in the United States and other Western nations.16 Stigma leads others to avoid living, socializing, or working with, renting to, or employing people with mental disorders—especially severe disorders, such as schizophrenia. It leads to low self-esteem, isolation, and hopelessness. It deters the public from seeking and wanting to pay for care.5 Responding to stigma, people with mental health problems internalize public attitudes and become so embarrassed or ashamed that they often conceal symptoms and fail to seek treatment.

Target population catchment area: The target population catchment area is the geographic area from which the target population to be served by a program will be drawn.

Wellness Recovery and Action Plan (WRAP): A recovery-focused practice in which an individual develops his/her own system for monitoring and responding to symptoms in order to achieve the highest possible levels of wellness.

Wraparound Service: Wraparound services are non-clinical supportive services—such as child care, vocational, educational, and transportation services—that are designed to improve the individual's access to and retention in the proposed project.

Appendix C: Certificate of Eligibility for National Technical Assistance Centers on Consumer/Peer Run Programs

An authorized representative of the applicant organization (whose signature appears on page one of the face page of the application PHS form 5161) must complete and sign this Certificate. Appendix 2 of the application must include this Certificate and all supporting documentation specified within it.

All applicant organizations must meet the criteria of either consumer organizations or consumer supporter organizations, Sections A or B below and the requirements of Section C.

(A) Applicants for the National Technical Assistance Centers (controlled and managed by consumers) must certify and attest to the following:

• I certify that:

—The applicant is an organization that is controlled and managed by consumers and dedicated to the improvement of mental health services. Please include minutes of meetings and all other pertinent material to demonstrate that your organization is controlled and managed by consumers and dedicated to the improvement of mental health services.

—The applicant organization has a board of directors comprised of more than 50 per cent consumers. Please include names of your Board of Directors and length of time each has served.

—The consumers on the board of directors are individuals 18 years of age or older with severe mental illness.

—The consumer Board of Directors has been in operation for more than one year. Please include minutes and names of individuals who have served on the Board of Directors starting in calendar year 2003.

(B) Applicants for the National Technical Assistance Centers (controlled and managed by consumer supporters) must certify and attest to the following:

• I certify that:

—The applicant is an organization that is controlled and managed by consumer supporters and dedicated to the improvement of mental health services. Please include minutes of meetings and all other pertinent material to demonstrate that your organization is controlled and managed by consumer supporters and dedicated to the improvement of mental health services.

—The applicant organization has a Board of Directors comprised of more than 50 per cent consumer supporters. Please include names of your Board of Directors and length of time each has served.

—The consumer supporters on the Board of Directors are individuals involved with the support of a consumer (age 18 or older) including parents, siblings, spouses and significant others, friends, co-workers, and neighbors who provide support in a non-professional capacity.

—The consumer supporter Board of Directors has been in operation for more than one year. Please send minutes and names of individuals who served on the Board of Directors starting in calendar year 2003.

(C) All applicants for National Technical Assistance Centers on Consumer/Peer-Run Programs must certify that:

—The applicant organization has been in operation as a legal entity for a minimum of one year. Please submit proof.

—The United States Federal Government Internal Revenue Service (I.R.S.) has issued the applicant organization tax-exempt status. Supporting documentation of such status dated prior to January 2004 is included in this application.

—The applicant organization will take an active role in the fiscal management and oversight of the project and will be legally, fiscally, administratively, and programmatically responsible for the grant and has not submitted a “pass through,” “umbrella,” or “cover letter” application.

This form must be signed and dated below by an authorized representative of the applicant organization certifying that the aforementioned statements are accurate.

Type or print name and title

Signature of Applicant certifying validity of Date of Signature all information contained in this document

Date of Signature

Type: Consumer or Consumer Supporter TAC

Appendix D: Requirements for Planning CSP-Supported National Consumer Conferences

Since 1985, the Center for Mental Health Services' (CMHS) Community Support Program (CSP) has supported national conferences for primary consumers (also referred to as ex-patients or survivors) of mental health services. The purpose of this issuance is to facilitate the planning of these conferences by clarifying CMHS and CSP policies and defining the roles and responsibilities of grantees organizing the event, the Government Project Officer (GPO), the Conference Advisory Committee, and other CMHS staff involved in planning these conferences.

Purpose of Conference

The purpose of this conference is to provide a forum for consumers from across the Nation to meet, exchange information and ideas, and provide and receive technical assistance on a variety of topics of interest, such as peer support, consumer-operated services, self-help, protection and advocacy issues, empowerment, and recovery. The conference also transfers knowledge on best practices in mental health and support services. The information and knowledge gained through attending this conference enables consumers to advocate for effective individual treatments and services, as well as for broader managed care and service system improvements.

Participants

The conference is open to all individuals who have had or are currently experiencing a mental health disorder. It also is open to others at the discretion of the Advisory Committee.

Grantee Organizing Conference

The grantee organization responsible for overseeing the conference will select a site that is accessible and affordable and, to the extent possible, different from previous sites for national conferences. The grantee also will be responsible for the logistics of the conference, including moderating the Conference Advisory Committee meetings and teleconference calls; developing and disseminating materials; handling publicity; and arranging for lodging, meals, registration, meeting rooms, emergency procedures, transportation, and the conference evaluation. Within 3 months of the conference, the grantee is responsible for submitting a final report on the conference that details the expenditures, summarizes the evaluations, and provides recommendations for future national consumer conferences.

Government Project Officer (GPO)

The GPO will approve the individual(s) who have a major role in coordinating the conference and will review and provide guidance on the composition of the Conference Advisory Committee, the proposed budget expenditures for the conference, policies regarding scholarships, and logistical plans. Furthermore, the location, agenda, and specific conference brochure providing presenters and workshop descriptions must be approved by the GPO prior to finalizing and sending to the field. The GPO will participate in Conference Advisory Committee meetings and teleconferences. The GPO also will provide technical assistance, as requested.

Advisory Committee and Planning Process

The conference will be planned by a committee formed approximately 1 year prior (as funding permits) to the actual conference. The members will include duly appointed representatives of the national consumer organizations, Federal CMHS CSP staff (Grant Project Officer), CMHS Consumer Affairs liaison staff, and the Directors or designees of the CSP-funded Consumer Technical Assistance Centers. The Committee will reflect gender, ethnic/minority representation, and, to the extent possible, geographic distribution and involvement of individuals who have not participated on previous Conference Advisory Committees.

The Committee will devise a process for gathering information from consumers throughout the Nation on topics of interest for the agenda and speakers. Final decisions regarding the agenda will be made by the Advisory Committee. However, the workshop areas selected should represent a variety of viewpoints and mainly include workshops run by and for consumers.

The Advisory Committee is responsible for designing the programmatic aspects of the conference, including the theme and logo. Only members of the Committee may vote on decisions regarding the agenda and speakers for the conference. The Advisory Committee should meet physically once and handle continuing business through telephone conference calls, mailings, and computer e-mail.

Involvement of National Consumer Organizations

The conference agenda and official workshops may not be used to further the development of national consumer organizations or for other purely parochial interests. However, individuals from the various national consumer organizations may use the times before and after the conference, free times scheduled on the agenda, and evenings to conduct activities related to promoting or planning for their respective organizations. Of course, national consumer organizations and other organizations may sponsor substantive workshops.

Information related to the business activities of individuals or national organizations must be kept separate from the conference agenda and sent out in separate mailings.

BILLING CODE 4162-20-P

Dated: April 19, 2004.
Daryl Kade,
Director, Office of Policy Planning and Budget, Substance Abuse and Mental Health Services Administration.

[FR Doc. 04-9149 Filed 4-21-04; 8:45 am]

BILLING CODE 4162-20-C